COMMISSION ON CIVIL RIGHTS

Notice of Public Meeting of the South Carolina Advisory Committee for a Meeting To Welcome New Members of the Committee and Discuss Potential Project Topics

AGENCY: U.S. Commission on Civil Rights.

ACTION: Announcement of meeting.

SUMMARY: Notice is hereby given, pursuant to the provisions of the rules and regulations of the U.S. Commission on Civil Rights (Commission) and the Federal Advisory Committee Act that the South Carolina (State) Advisory Committee will hold a meeting on Tuesday, December 1, 2015, for the purpose of welcoming new members to the committee and discussing potential projects.

Members of the public can listen to the discussion. This meeting is available to the public through the following toll-free call-in number: 1-888-510-1785, conference ID: 764821. Any interested member of the public may call this number and listen to the meeting. The conference call operator will ask callers to identify themselves, the organization they are affiliated with (if any), and an email address prior to placing callers into the conference room. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also invited and welcomed to make statements at the end of the conference call. In addition, members of the public may submit written comments; the comments must be received in the regional office by January 2, 2016. Written comments may be mailed to the Southern Regional Office, U.S. Commission on Civil Rights, 61 Forsyth Street, Suite 16T126, Atlanta, GA 30303. They may also be faxed to the Commission at (404) 562-7005, or emailed to Regional Director, Jeffrey Hinton at jhinton@usccr.gov. Persons who desire additional information may contact the Southern Regional Office at (404) 562-7000.

Records generated from this meeting may be inspected and reproduced at the Southern Regional Office, as they become available, both before and after the meeting. Records of the meeting will be available at the South Carolina Advisory Committee link at http://facadatabase.gov/committee/meetings.aspx?cid=273 and clicking on the “Meeting Details” and “Documents” links. Persons interested in the work of this Committee are directed to the Commission's Web site, http://www.usccr.gov, or may contact the Southern Regional Office at the above email or street address.

DATES: The meeting will be held on Tuesday, December 1, 2015, at 12:00 p.m. EST.

ADDRESSES: The meeting will be by teleconference. Toll-free call-in number: 1-888-510-1785, conference ID: 764821.

Agenda

Welcome and Introductions of new advisory committee members

Walter Caudle, Chairman

South Carolina Advisory Committee discussion of potential project topics

Walter Caudle, Chairman

Open Comment

Advisory Committee

Public Participation

Adjournment

Dated: October 28, 2015.
David Mussatt,
Chief, Regional Programs Unit.

[FR Doc. 2015-27867 Filed 11-2-15; 8:45 am]

BILLING CODE 6335-01-P